DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 19, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC on September 09, 2011.
Donald Burger,
Chief, General Approvals and Permits.

Application No. | Docket No. | Applicant | Regulation(s) affected | Nature of special permits thereof
New Special Permits
15429-N |  | Demex International Inc. Picayune, MS | 49 CFR 176.144(e) | To authorize the ransportation in commerce of certain explosives by vessel in an alternative stowage configuration. (mode 3).
15440-N |  | Mountain Air Helicopters, Inc. Los Lunas, NM | 49 CFR 172.101, Column (9B), 172.204(c)(3), 173.27(b)(2), 175.30(a)(1) | To authorize the transportation in commerce of certain hazardous materials by cargo aircraft including by external load in remote areas of the US without being subject to hazard communication requirements and quantity limitations where no other means of transportation is available. (mode 4).
15443-N |  | Iliamna Air Guides, DBA Soloy Helicopters, LLC Wasilla, AK | 49 CFR 172.101 Column (9B), 172.204(c)(3), 173.27(b)(2), 175.30(a)(1), 172.200, 172.300 and 172.400 | To authorize the transportation in commerce of certain Class 1 hazardous materials by cargo aircraft including by external load in remote areas of the US without being subject to hazard communication requirements and quantity limitations where no other means of transportation is available. (mode 3).
15446-N |  | Arkema, Inc. King of Prussia, PA | 49 CFR 172.427 | To authorize the transportation in commerce of organic peroxides in packaging with labeling allowed prior to changes promulgated under HM-2151. (mode 1).
15451-N |  | NK CO., LTD Gangseo-Gu, Busan | 49 CFR 180.209(a) and (b) | To authorize the transportation in commerce of certain DOT 3AA, 3AAX and 3T cylinders in Multiple Element Gas Containers that have been retested every ten (10) years instead of every five (5) years by acoustic emission and ultrasonic examination (AE/UE) in place of the internal visual inspection and the hydrostatic retest required by § 180.205 (modes 1, 2, 3).
15452-N |  | BE Aerospace Lenexa, KS | 49 CFR 173.302(f) (2)(i) | To authorize the transportation in commerce of certain DOT Specification 39 cylinders containing oxygen that have their pressure relief devices set to an alternative burst at pressure range. (modes 4, 5).
15453-N |  | HRD Aero Systems Inc. Valencia, CA | 49 CFR 173.302a and 173.304a | To authorize the transportation in commerce of certain cylinders manufactured under DOT-SP 7971 which contain bromochlorodi-fluoromethane and nitrogen. (modes 1, 2, 3, 4, 5).
15454-N |  | Hoke, Inc. Spartanburg, SC | 49 CFR 178.39 | To authorize the re-manufacturing of specific DOT Specification 3BN cylinders by reducing the volume from 4500 cc to 3000 cc. (mode 1)

[FR Doc. 2011-23819 Filed 9-16-11; 8:45 am]

BILLING CODE 4909-60-M